FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Web site (www.fmc.gov) or by contacting the Office of Agreements at (202) 523-5793 or tradeanalysis@fmc.gov.

Agreement No.: 010071-040.

Title: Cruise Lines International Association Agreement.

Parties: AMA Waterways; American Cruise Lines, Inc.; Avalon Waterways; Azamara Cruises; Carnival Cruise Lines; Celebrity Cruises, Inc.; Costa Cruise Lines; Crystal Cruises; Cunard Line; Disney Cruise Line; Holland America Line; Hurtigruten, Inc.; Louis Cruises ; MSC Cruises; NCL Corporation; Oceania Cruises; Paul Gauguin Cruises; Pearl Seas Cruises; Princess Cruises; Regent Seven Seas Cruises; Royal Caribbean International; Seabourn Cruise Line; SeaDream Yacht Club; Silversea Cruises, Ltd.; Uniworld River Cruises, Inc.; and Windstar Cruises.

Filing Party: Andre Picciurro, Esq. Kaye, Rose & Partners, LLP; Emerald Plaza, 402 West Broadway, Suite 1300; San Diego, CA 92101-3542.

Synopsis: The amendment would update the agreement membership and make changes to the by-laws.

Agreement No.: 011707-011.

Title: Gulf/South America Discussion Agreement.

Parties: Industrial Maritime Carriers LLC; Seaboard Marine, Ltd.

Filing Party: Wade S. Hooker, Esq.; 211 Central Park W; New York, NY 10024.

Synopsis: The amendment would add BBC Chartering & Logistic GmbH & Co. KG as a party to the agreement. The parties have requested expedited review.

Agreement No.: 012231.

Title: Seaboard/Hybur Ltd. Space Charter Agreement.

Parties: Seaboard Marine Ltd. and Hybur Ltd.

Filing Party: Joshua Stein, Esq.; Cozen O'Connor; 1627 I Street NW., Suite 1100; Washington, DC 20006.

Synopsis: The agreement would authorize the parties to charter space to and from one another in the trades between ports in south Florida on the one hand and ports on the Caribbean/Atlantic Coasts of Mexico, Cayman Islands, and Belize on the other hand.

Agreement No.: 012232.

Title: MSC/CMA CGM North West European Continent-US East Coast Service Space Charter Agreement.

Parties: MSC Mediterranean Shipping Company S.A. and CMA CGM S.A.

Filing Parties: Marc J. Fink, Esq.; Cozen O'Connor; 1627 I Street, NW., Suite 1100; Washington, DC 20006.

Synopsis: The agreement authorizes MSC to charter space to CMA CGM in the trade between the North West European Continent and the U.S. East Coast.

Dated: November 8, 2013.
By Order of the Federal Maritime Commission.
Karen V. Gregory,
Secretary.

[FR Doc. 2013-27253 Filed 11-13-13; 8:45 am]

BILLING CODE 6730-01-P